NUCLEAR REGULATORY COMMISSION

[Docket No. 50-261]

Carolina Power And Light Company, H. B. Robinson Steam Electric Plant, Unit No. 2; Environmental Assessment and Finding of No Significant Impact

The U.S. Nuclear Regulatory Commission (NRC or the Commission) is considering issuance of an exemption from Title 10 of the Code of Federal Regulations (10 CFR) part 50, section 68, “Criticality Accident Requirements,” subsection (b)(1) for Facility Operating License No. DPR-23 issued to the Carolina Power and Light Company (the licensee) for operation of the H.B. Robinson Steam Electric Plant, Unit No. 2 (HBRSEP2) located in Darlington County, South Carolina. The NRC is issuing this environmental assessment pursuant to 10 CFR 51.21 and is making a finding of no significant impact (FONSI).

Environmental Assessment

Identification of the Proposed Action

The proposed action would exempt the licensee from the requirements of 10 CFR 50.68, “Criticality Accident Requirements,” subsection (b)(1) during the spent fuel pool activities related to the underwater handling, loading, and unloading of the dry shielded canister (DSC) NUHOMS -24PTH as described in proposed Amendment No. 8 to Certificate of Compliance No. 1004 listed in 10 CFR 72.214. The proposed action is in accordance with the licensee's application dated February 22, 2005, as supplemented on May 10 and July 6, 2005.

The Need for the Proposed Action

In 10 CFR 50.68(b)(1), the Commission sets forth the following requirement that must be met in lieu of a monitoring system capable of detecting criticality events:

Plant procedures shall prohibit the handling and storage at any one time of more fuel assemblies than have been determined to be safely subcritical under the most adverse moderation conditions feasible by unborated water.

Section 50.12(a) of 10 CFR allows licensees to request an exemption from the requirements of 10 CFR Part 50 if the application of the regulation is not necessary to achieve the underlying purpose of the rule and special conditions are met. The licensee stated that compliance with 10 CFR 50.68(b)(1) is not necessary for underwater handling, loading, and unloading of the DSC NUHOMS-24PTH in the HBRSEP2 spent fuel pool to achieve the underlying purpose of the rule. The NRC has completed its safety evaluation of the proposed action and concludes that the underlying purpose of 10 CFR 50.68(b)(1) will still be satisfied if the exemption is granted. The details of the NRC staff's safety evaluation will be provided in the exemption that will be issued as part of the letter to the licensee approving the exemption to the regulation.

Environmental Impacts of the Proposed Action

The proposed action will not significantly increase the probability or consequences of accidents. No changes are being made in the types of effluents that may be released off site. There is no significant increase in the amount of any effluent released off site. There is no significant increase in occupational or public radiation exposure. Therefore, there are no significant radiological impacts associated with the proposed action.

With regard to potential non-radiological impacts, the proposed action does not have a potential to affect any historic sites. It does not affect non-radiological plant effluents and has no other environmental impact. Therefore, there are no significant non-radiological impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for HBRSEP2 dated April 1975, and the Final Supplemental Environmental Impact Statement (NUREG-1437 Supplement 13) dated December 2003.

Agencies and Persons Consulted

On July 11, 2005, the staff consulted with the South Carolina State official, Mr. Michael Gandy of the South Carolina Department of Health, regarding the environmental impact of the proposed action. The State official had no comments.

Finding of No Significant Impact

On the basis of the environmental assessment set forth above, the NRC concludes that the proposed action will not have a significant effect on the quality of the human environment and is therefore issuing this FONSI. Accordingly, the NRC has determined not to prepare an environmental impact statement for the proposed action.

For further details with respect to the proposed action, see the licensee's letters dated February 22, May 10, and July 6, 2005. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html.

Persons who do not have access to ADAMS or who encounter problems in accessing the documents located in ADAMS should contact the NRC PDR Reference staff at 1-800-397-4209 or 301-415-4737, or send an e-mail to pdr@nrc.gov.

Dated in Rockville, Maryland, this 20th day of July, 2005.
For The Nuclear Regulatory Commission.
Chandu P. Patel,
Project Manager, Section 2, Project Directorate II, Division of Licensing Project Management, Office of Nuclear Reactor Regulation.

[FR Doc. E5-3995 Filed 7-26-05; 8:45 am]

BILLING CODE 7590-01-P